DEPARTMENT OF TRANSPORTATION

Federal Railroad Administration

[Docket Number FRA-2008-0010]

Petition for Waiver of Compliance

In accordance with Part 211 of Title 49 Code of Federal Regulations, this document provides the public notice that by a document dated January 18, 2013, the Northwestern Pacific Railroad Company (NWP), the National Railroad Passenger Corporation, and the Capitol Corridor Joint Powers Authority (Petitioners) have jointly petitioned the Federal Railroad Administration (FRA) for an exception to a condition in a previously granted application for an approval of the discontinuance and removal of NWP's interlocking signal system on three drawbridges—including the Brazos Drawbridge—in Docket Number FRA-2008-0010. By letter dated April 3, 2009, FRA had approved NWP's block signal application subject to certain conditions, including the condition that the approval was for freight movements only and should be revisited prior to any passenger operations over the three drawbridges.

Petitioners request this exception for a one-time, one-day, roundtrip, chartered passenger train movement on June 23, 2013, over the Brazos Drawbridge. The charter train will operate from Sacramento to the Sears Point Raceway in Sonoma, CA, and then back to Sacramento.

Petitioners have agreed to a service operating plan for this charter train movement that includes the safety of train operations, equipment, passenger boarding/alighting, staffing, access/egress considerations, dispatching, and all relevant safety precautions that have been established for freight train movements. NWP's general manager will be responsible for the charter train's operations over NWP track between Brazos Junction and the Sears Point Raceway, including across the Brazos Drawbridge.

A copy of the petition, as well as any written communications concerning the petition, is available for review online at www.regulations.gov and in person at the U.S. Department of Transportation's (DOT) Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by April 12, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on February 21, 2013.
Robert C. Lauby,
Deputy Associate Administrator for Regulatory and Legislative Operations.

[FR Doc. 2013-04378 Filed 2-25-13; 8:45 am]

BILLING CODE 4910-06-P